FEDERAL COMMUNICATIONS COMMISSION

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting.

DATES: Wednesday, March 7th, 2018 in the Commission Meeting Room, from 10:00 a.m. to 3:00 p.m.

ADDRESSES: Federal Communications Commission, 445 12th Street SW, Washington, DC 20554.

FOR FURTHER INFORMATION CONTACT: Walter Johnston, Chief, Electromagnetic Compatibility Division, 202-418-0807; Walter.Johnston@FCC.gov.

SUPPLEMENTARY INFORMATION: This is the first meeting of the Technological Advisory Council for 2018. At its prior meeting on December 6th, 2017, the Council had discussed possible work initiatives for 2018. These initiatives have been discussed in the interim within the FCC, with the TAC chairman, as well as with individual TAC members. At the June meeting, the FCC Technological Advisory Council will discuss its proposed work program for 2018. The FCC will attempt to accommodate as many people as possible. However, admittance will be limited to seating availability. Meetings are also broadcast live with open captioning over the internet from the FCC Live web page at http://www.fcc.gov/live/. The public may submit written comments before the meeting to: Walter Johnston, the FCC's Designated Federal Officer for Technological Advisory Council by email: Walter.Johnston@fcc.gov or U.S. Postal Service Mail (Walter Johnston, Federal Communications Commission, Room 2-A665, 445 12th Street SW, Washington, DC 20554). Open captioning will be provided for this event. Other reasonable accommodations for people with disabilities are available upon request. Requests for such accommodations should be submitted via email to fcc504@fcc.gov or by calling the Office of Engineering and Technology at (202) 418-2470 (voice), (202) 418-1944 (fax). Such requests should include a detailed description of the accommodation needed. In addition, please include your contact information. Please allow at least five days advance notice; last minute requests will be accepted, but may be impossible to fill.

Federal Communications Commission.
Julius P. Knapp,
Chief, Office of Engineering and Technology.

[FR Doc. 2018-02196 Filed 2-2-18; 8:45 am]

BILLING CODE 6712-01-P